DEPARTMENT OF TRANSPORTATION

Federal Aviation Administration

Notice of Intent To Provide an O'Hare International Airport Environmental Impact Statement Public Information Meeting in Schiller Park, IL

AGENCY: Federal Aviation Administration, DOT.

ACTION: The Federal Aviation Administration (FAA) Issuance of a Notice of Intent (NOI) to Conduct an Informational Meeting with Regard to the Ongoing Environmental Impact Statement for the Proposed Modernization Program for O'Hare International Airport.

SUMMARY: This NOI announces the FAA's intention to conduct a Public Information Meeting on behalf of the FAA's ongoing Environmental Impact Statement (EIS) for the proposed Modernization Program for O'Hare International Airport. The Airport is located in Chicago, Illinois. Due both to the anticipated high level of interest in matters pertaining to O'Hare International Airport, and FAA's desire to more fully involve and accommodate potentially interested persons, agencies, and other entities, the FAA has decided to conduct a Public Information Meeting focused on the status of the ongoing EIS, with special emphasis on project purpose and need matters. The information meeting will be co-hosted with the Chicago Department of Aviation (DOA), and it will be conducted as follows: Wednesday, March 19, 2003 from 4 p.m. to 8 p.m. at the Mirage Banquets facility at the Four Points Sheraton O'Hare hotel located at 10249 West Irving Park Road in Schiller Park, Illinois. A number of display boards illustrating the current status of the ongoing EIS and describing FAA's conceptualization of key project purpose and need criteria (as well as a number of the Airport's key present and projected operational problems) will be available for inspection. Staff of FAA and its Third Party EIS Contractor will be available at the Public Information Meeting to answer questions. Forms for providing written comments to FAA by interested parties on the matters presented by FAA in the Public Information Meeting will also be provided. FAA is requesting that comments be submitted by the close of business on Monday, April 21, 2003.

Representatives of the DOA will be available to offer information on its Airport Layout Plan (ALP), on its analysis of runway options, on its facility requirements, and on its concept for development of the Airport.

FOR FURTHER INFORMATION CONTACT: Michael W. MacMullen, Airports Environmental Program Manager, Federal Aviation Adminstration, Chicago Airports District Office, 2300 East Devon Avenue, Des Plaines, Illinois 60018. Mr. MacMullen can be contacted by phone at (847) 294-7522 (voice) and at (847) 294-7046 (facsimile).

SUPPLEMENTARY INFORMATION: The FAA previously decided to prepare an Environmental Impact Statement (EIS) addressing specific improvements at and adjacent to O'Hare International Airport. As presently conceived, the runway construction component of the O'Hare Modernization Program would involve: a new North Runway 9-27, a relocation of existing Runway 18-36 (Arrival Runway 9R-27L), a relocation of existing Runway 14L-32R (arrival Runway 9L-27R), a relocation of existing Runway 14R-32L (South Runway 9-27), an extension of existing Runway 9R-27L, and an extension of existing Runway 9L-27R. Overall, the proposed project as presently conceived would result in O'Hare International Airport ultimately having a total of eight runways: six parallel east-west runways, and two parallel runways oriented in the northeast-southwest direction. In addition, the O'Hare Modernization Program could also potentially involve relocation of some or all existing navigation aids, placement of new navigation aids, revision to existing air traffic control procedures, provision of a new western access to the Airport, additional terminal facilities, and various roadway and rail line relocations. Finally, the potential acquisition of approximately 539 housing units, 109 businesses, and 433 acres of property outside of the Airport's present boundaries is also envisioned. The purpose and need for the above-identified improvements will be presented and reviewed in detail within FAA's forthcoming EIS. In addition, reasonable alternatives, including the “no-build,” will be considered, as appropriate.

Interested parties are invited to attend the Public Information Meeting and also to provide written comments to FAA. The FAA informational contact person identified above should receive any written comments by no later than the close of business on Monday, April 21, 2003.

Issued in Des Plaines, Illinois on February 6, 2003.
Philip M. Smithmeyer,
Manager, Chicago Airports District Office, Great Lakes Region.

[FR Doc. 03-3599 Filed 2-13-03; 8:45 am]

BILLING CODE 4910-13-M